DEPARTMENT OF THE INTERIOR

Bureau of Land Management

[CA-350-1220-AA]

Emergency Closure Order

AGENCY: Bureau of Land Management, Interior.

ACTION: Emergency closure of trails, Fort Sage Off Highway Vehicles Area.

SUMMARY: Notice is hereby given that effective immediately, certain roads and trails in the Fort Sage Off Highway Vehicle Area are closed to all vehicle use. The affected routes are (1) A 4WD vehicle trail located in Sections 1 and 2, T. 25 N., R. 17 E., M.D.M, traversing easterly-westerly; (2) a 4WD vehicle trail located in Sections 2 and 11, T. 25 N., R. 17 E., M.D.M, traversing easterly-westerly; (3) a motorcycle trail located in Sections 2 and 11, T. 25 N., R. 17 E., and Section 34, T. 26 N., R. 17 E., M.D.M, traversing northerly-southerly; (4) All vehicle trails in Sections 7, 18, 19, and 30 T. 25 N., R. 18 E., M.D.M except the road to Willow Springs. The authorized officer reserves the right to allow administrative access when it is determined to be in the interest of the government (i.e. emergency-search and rescue, fire suppression).

SUPPLEMENTARY INFORMATION: The purpose of this closure is to allow for recovery of lands burned by wildfire in August, 2001. Vehicular use of the area has the potential for causing adverse impacts to soil, vegetation, wildlife, wildlife habitat, scenic, and recreation resources until stabilization of the area has occurred. The closure will remain in effect until vegetation recovery is sufficient to delimit the trails and routes and adjacent soil, vegetation, wildlife, wildlife habitat, scenic, and recreation resources are not at risk of adverse impact from trail use of motorized vehicles. The authority for this closure is 43 CFR 834.12.

FOR MORE INFORMATION CONTACT: James Sippel, Outdoor Recreation Planner, BLM Eagle Lake Field Office (530) 257-0456.

Linda D. Hansen,
Field Manager.

[FR Doc. 01-31753 Filed 12-26-01; 8:45 am]

BILLING CODE 4310-40-M